GENERAL SERVICES ADMINISTRATION

48 CFR Chapter V

[Notice-MV-2017-02; Docket 2017-0002; Sequence No. 8]

Evaluation of Existing Leasing Acquisition Regulations; Extension of Comment Period

AGENCY: General Services Administration (GSA).

ACTION: Request for comments; extension of comment period.

SUMMARY: GSA issued a document on May 30, 2017 seeking input by July 31, 2017. The comment period is extended until August 14, 2017, in order to provide additional time for interested parties to review and submit comments on the document.

DATES: The comment period for the document published in the Federal Register at 82 FR 24652, published on May 30, 2017, is extended until August 14, 2017.

Comment Date: Interested parties should submit comments to the Regulatory Secretariat at one of the addresses shown below on or before August 14, 2017.

ADDRESSES: Submit comments identified by “Notice-MV-2017-02, Evaluation of Existing Leasing Acquisition Regulations” by any of the following methods:

• Regulations.gov: http://www.regulations.gov. Submit comments via the Federal eRulemaking portal by searching for Notice-MV-2017-02, Evaluation of Existing Regulations. Select the link “Comment Now” that corresponds with “Notice-MV-2017-02, Evaluation of Existing Leasing Regulations.” Follow the instructions provided on the screen. Please include your name, company name (if any), and “Notice-MV-2017-02, Evaluation of Existing Leasing Regulations” on your attached document.

• Google form found at: https://goo.gl/forms/4ilmzTHJ2HhDcmG23. If you are commenting via the google form, please note that each regulation or part that you are identifying for repeal, replacement or modification should be entered into the form separately. This will assist GSA in its tracking and analysis of the comments received.

• Mail: General Services Administration, Regulatory Secretariat Division (MVCB), 1800 F Street NW., Washington, DC 20405.

FOR FURTHER INFORMATION CONTACT: Ms. Francine Serafin, 202-705-8659, or via email at francine.serafin@gsa.gov.

SUPPLEMENTARY INFORMATION: GSA published a document in the Federal Register at 82 FR 24652 on May 30, 2017, seeking input on lease acquisition regulations, policies, standards, business practices and guidance issued by GSA. The comment period is extended to provide additional time for interested parties to the review and submit comments on the document.

Dated: July 18, 2017.
Michael Downing,
Office of the Administrator.

[FR Doc. 2017-15454 Filed 7-28-17; 8:45 am]

BILLING CODE 6820-61-P